DEPARTMENT OF THE INTERIOR

National Park Service

Notice of Inventory Completion: Palo Alto Junior Museum and Zoo, Palo Alto, CA

AGENCY: National Park Service, Interior.

ACTION: Notice.

Notice is here given in accordance with the Native American Graves Protection and Repatriation Act (NAGRPA), 25 U.S.C. 3003, of the completion of an inventory of human remains and associated funerary object in the control of the Palo Alto Junior Museum and Zoo, Palo Alto, CA. The human remains and associated funerary object were removed from an unknown location in the Southwestern United States.

This notice is published as part of the National Park Service's administration responsibilities under NAGPRA, 25 U.S.C. 3003(d)(3). The determinations in this notice are the sole responsibility of the museum, institution, or Federal agency that has control of the Native American human remains and associated funerary object. The National Park Service is not responsible for the determinations in this notice.

A detailed assessment of the human remains was made by the Palo Alto Junior Museum and Zoo professional staff with assistance from the Anthropological Studies Center, Archaeological Collections Facility, Sonoma State University professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; and Tohono O'odham Nation of Arizona.

At an unknown time, human remains representing a minimum of one individual were removed from an unknown location in the Southwestern United States. The human remains were donated at an unknown time by an unknown donor to the Palo Alto Junior Museum and Zoo. No known individual was identified. The one associated funerary object is a cremation urn.

The antiquity of the human remains is unknown. No testing has been performed. The age, sex, and ethnicity of the individual are unknown due to the thoroughness of the cremation process. However, the cremation urn associated with the individual has been identified as Hohokam. The cremation urn is made of buffware ceramic with an exterior design traditional to the Hohokam tribe of the Southwestern United States.

Archeological evidence has demonstrated a strong relationship of shared group identity between the Hohokam and the present-day O'odham (Pima and Papago) and Hopi. The O'odham people are currently represented by the Ak Chin Indian Community of the Maricopa (Ak Chin) Indian Reservation, Arizona; Gila River Indian Community of the Gila River Indian Reservation, Arizona; Salt River Pima-Maricopa Indian Community of the Salt River Reservation, Arizona; and Tohono O'odham Nation of Arizona. In 1990, representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona issued a joint policy statement claiming ancestral ties to the Hohokam cultural traditions.

Hopi oral tradition places the origins of their Patki, Sun, Sand, Corn, and Tobacco Clans south of the Colorado plateau. While Hopi oral traditions do not identify specific locations, some of the descriptions are consistent with Hohokam settlements in central Arizona during the Classic period. O'odham oral traditions indicate that some of the Hohokam people migrated north and joined the Hopi. In 1994, representatives of the Hopi Tribe of Arizona issued a statement claiming cultural affiliation with Hohokam cultural traditions.

The oral traditions of the Zuni mention Hawikuh, a Zuni community, as a destination of settlers from the Hohokam area. Zuni language, prayers, and rituals used by the Zuni Shu maakwe medicine society have descended from the Hohokam. In 1995, representatives of the Zuni Tribe of the Zuni Reservation, New Mexico issued a statement claiming cultural affiliation with the Hohokam cultural traditions.

Based on consultation with the tribes and the available archeological evidence, officials of the Palo Alto Junior Museum and Zoo reasonably believe that the human remains are of Native American ancestry, specifically Hohokam. There is no further museum documentation on the human remains and associated funerary object.

Descendants of the Hohokam, Papago, and Pima are members of the present-day Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Officials of the Palo Alto Junior Museum and Zoo have determined that, pursuant to 25 U.S.C. 3001 (9-10), the human remains described above represent the physical remains of one individual of Native American ancestry. Officials of the Palo Alto Junior Museum and Zoo also have determined that, pursuant to 25 U.S.C. 3001 (3)(A), the one associated funerary object described above is reasonably believed to have been placed with or near individual human remains at the time of death or later as part of the death rite or ceremony. Lastly, the officials of the Palo Alto Junior Museum and Zoo have determined that, pursuant to 25 U.S.C. 3001 (2), there is a relationship of shared group identity that can be reasonably traced between the human remains and associated funerary object and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary object described above should contact Robert De Geus, Recreation and Youth Service's Division Manager, 1305 Middlefield Rd., Palo Alto, CA 94301, telephone (650) 463-4908, before March 9, 2007. Repatriation of the human remains and associated funerary object to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The Palo Alto Junior Museum and Zoo is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: December 14, 2006.
Sherry Hutt,
Manager, National NAGPRA Program.

[FR Doc. E7-1963 Filed 2-6-07; 8:45 am]

BILLING CODE 4312-50-S